DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of January, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,961; WRS Motion Picture and Video Lab, Pittsburgh, PA

TA-W-39,438; United Veil Dyeing and Finishing, Jersey City, NJ

TA-W-40,605; Powerbrace Corp., Kenosha, WI

TA-W-40,478; Dimension Carbide, Inc., Guys Mills, PA

TA-W-40,480; Flambeau Corp., Sun Prairie, WI

TA-W-40,058; Belco Tool and Manufacturing, Inc., Meadville, PA

TA-W-39,925; Baker Enterprises, Inc., Alpena, MI

TA-W-40,528; Syst-A-Matic Tool and Design, Inc., Meadville, PA

In the following cases, the investigation revealed that the criteria for eligibility have not been met for the reasons specified.

Increased imports did not contribute importantly to worker separations at the firm.

TA-W-40,360 & A; Reptron Electronics, Reptron Manufacturing Services, Tampa, FL and Gaylord, MI

TA-W-40,288; Compaq Computer Corp., CCM6 Plant, Houston, TX

TA-W-40,256; Lucent Technologies (now known as Celestica), Columbus Works, Columbus, OH

The investigation revealed that criteria (2) has not been met. Sales or production did not decline during the relevant period as required for certification.

TA-W-40,636; King Manufacturing Co., Inc., Corinth, MS

Affirmative Determinations for Worker Adjustment Assistance

The following certifications have been issued; the date followed the company name and location of each determination references the impact date for all workers of such determination.

TA-W-40,043; Steelcase Architectural Walls, Inc., a/k/a Clestra Hauserman, Inc., Solon, OH: August 24, 2000.

TA-W-40,184; Parker Hannifin Corp., Belleville, NJ: September 26, 2000.

TA-W-40,431 & A,B: Acme Steel Co., Riverdale, IL, Acme Coke Plant, Chicago, IL and Acme Furnace Plant, Chicago, IL: November 28, 2000.

TA-W-40,499; Swift Spinning Mills, Main Mill and Open End Spin Plant, Columbus, GA: December 19, 2000.

TA-W-40,541; Americold, A Div. Of AB Electrolux, Cullman, AL: November 28, 2000.

TA-W-40,554; Beltex Underwear Co., LLC, Formerly Beltex Corp., Belmont, NC: December 20, 2000.

TA-W-40,593; TRW, Inc., Steering Product Center, Rogersville, TN: October 18, 2000.

TA-W-40,660; Mettler Toledo Process Analytical, Inc., Woburn, MA: December 3, 2000.

TA-W-40,690; Willacy Apparel, Div. Of Indiana Knitwear Corp., Lyford, TX: October 23, 2000.

TA-W-40,356; Littonian Shoe Co, Littlestown, PA: January 25, 2002.

TA-W-38,887; Schlage Lock Co., San Jose, CA: March 8, 2000.

TA-W-39,410; North Star Steel, Wilton, IA: May 22, 2000.

TA-W-39,625; Kimlor Mills, Inc., Orangeburg, SC: June 30, 2000.

TA-W-39,845; R.B. and W. Manufacturing, LLC, Coraopolis, PA: August 6, 2000.

TA-W-40,088; R&V Industries, Inc. d/b/a Shape Global Technology, Sanford, ME: April 15, 2000.

TA-W-40,450; A.O. Smith, Electrical Products Co., Lexington, TN: November 28, 2000.

TA-W-40,517; Artex International, Boiling Springs, NC: November 23, 2000.

TA-W-40,524; Intermetro Industries, Corp., Douglas, GA: November 19, 2000.

TA-W-40,568; Carlisle Engineered Products, Erie, PA: October 25, 2000.

TA-W-40,698; 3M San Marcos, Formerly JM Outfitters, San Marcos, CA: November 2, 2000.

Also, pursuant to Title V of the North American Free Trade Agreement Implementation Act (Pub. L. 103-182) concerning transitional adjustment assistance hereinafter called (NAFTA-TAA) and in accordance with section 250(a), Subchaper D, Chapter 2, Title II, of the Trade Act as amended, the Department of Labor presents summaries of determinations regarding eligibility to apply for NAFTA-TAA issued during the month of January, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05556A; Alfa Laval, Inc., Formerly known as Tri-Clover, Kenosha, WI: All workers engaged in the production of pumps are denied.

NAFTA-TAA-05717; National Oilwell, McAlester, OK

NAFTA-TAA-05204; Baker Enterprises, Inc., Alpena, MI

NAFTA-TAA-05240; Valley Machining, Rock Valley, IA

NAFTA-TAA-05271; Belco Tool and Manufacturing, Inc., Meadville, PA

NAFTA-TAA-05504; Flambeau Corp., Sun Prairie, WI

NAFTA-TAA-05544; Powerbrace Corp., Kenosha, WI

NAFTA-TAA-05568; Dimension Carbide, Inc., Guys Mills, PA

NAFTA-TAA-04799; B.F. Goodrich Performance Materials, Taylors Plant, Taylors, SC

The workers firm does not produce an article as required for certification under section 250(a), Subchapter D, Chapter 2, Title II, the Trade Act of 1974, as amended.

NAFTA-TAA-05686; Road Machinery Co., Baynard/Chino Branch, Bayard, NM

NAFTA-TAA-05661; Tree Machine Tools, Inc., Div. of Excel Machine Tools Ltd, Franklin, WI

Affirmative Determinations NAFTA-TAA

NAFTA-TAA-05556; Alfa Laval, Inc., Formerly Known as Tri-Clover Kenosha, WI: November 19, 2000. All workers engaged in the production of fittings.

NAFTA-TAA-05678; Swift Spinning Mills, Main Mill and Open End Spin Plant, Columbus, GA: December 19, 2000.

NAFTA-TAA-05515; Carlisle Engineered Products, Erie, PA: October 23, 2000.

NAFTA-TAA-05580; Intermetro Industries Corp., Douglas, GA: November 19, 2000.

NAFTA-TAA-05643; A.O. Smith, Electrical Products Co., Lexington, TN: November 30, 2000.

NAFTA-TAA-05697; R.B. and W. Manufacturing, LLC, Coraopolis, PA: December 16, 2000.

NAFTA-TAA-05711; FCI USA, Inc., Emigsville, PA: January 7, 2001.

I hereby certify that the aforementioned determinations were issued during the month of January, 2002. Copies of these determinations are available for inspection in Room C-5311, U.S. Department of Labor, 200 Constitution Avenue, NW., Washington, DC 20210 during normal business hours or will be mailed to persons who write to the above address.

Dated: February 1, 2002.
Edward A. Tomchick,
Director, Division of Trade Adjustment Assistance.

[FR Doc. 02-3399 Filed 2-12-02; 8:45 am]

BILLING CODE 4510-30-M